DEPARTMENT OF THE TREASURY

Fiscal Service

Certification Pursuant to Energy Policy Act of 2005

AGENCY: Financial Management Service, Fiscal Service, Treasury.

ACTION: Notice.

SUMMARY: The Energy Policy Act of 2005 (Pub. L. 109-58) requires the Secretary of the Treasury to publish a certification when certain royalties withheld by lessees amount to a particular sum. This Notice is to provide the required certification.

DATES: This notice is effective as of June 28, 2011.

FOR FURTHER INFORMATION CONTACT: Teresa Dawson, Senior Counsel, Financial Management Service, 401 14th Street, SW., Washington, DC 20227; telephone (202) 874-7000.

SUPPLEMENTARY INFORMATION: The Oil Pollution Control Act of 1990, Public Law 101-380, dated August 18, 1990, authorized the appropriation of “such sums as may be necessary to provide compensation, including interest, to the State of Louisiana and its lessees, for net drainage of oil and gas resources * * *” The authorization also included funds for the payment of interest on this amount.

Congress established an alternate means of paying this compensation in the Energy Policy Act of 2005, Public Law 109-58, dated August 8, 2005. Rather than using appropriated funds to pay compensation to lessees and the State of Louisiana, section 383 of that Act provided that a lessee could withhold 100% of royalty payments due to the United States if the lessee paid to the State of Louisiana 44 cents of every dollar withheld. Any royalty payment withheld pursuant to that provision of law would be treated as paid in satisfaction of the lessee's royalty obligations to the United States. Section 383 also charged the Secretary of the Treasury with (1) determining the amount of royalty withheld by a lessee, and (2) publishing a certification when the total amount of royalty withheld by the lessee equaled $18,115,147.16 plus interest at 8% per annum.

To implement the payment provisions of Section 383, in October 2006 the Minerals Management Service (MMS) of the United States Department of the Interior entered into a Memorandum of Understanding (MOU) with the State of Louisiana and the lessee. Pursuant to that MOU, the lessee would report monthly to MMS the amount of royalties due, and would remit a payment of 44% of that total to the State of Louisiana. After the State of Louisiana confirmed receipt of that payment, MMS would offset the royalty receivable created on its books for amounts due from the lessee with a credit for the amount of royalty withheld. In January 2011, the Department of the Interior's Office of Natural Resources Revenue (ONRR) advised Treasury that the total amount due pursuant to Section 383 had been paid and requested the publication of the required certification.

Pursuant to the delegation of authority in Treasury Order 101-05 and the assignment of duties in Treasury Directive 27-02, Treasury's Financial Management Service (FMS) is publishing this notice to carry out the Secretary's certification obligation under the Oil Pollution Act of 2005. FMS has reviewed the schedule of withheld royalty payments provided by ONRR. Based on the information presented in that payment schedule, FMS is publishing this notice, certifying that, as of October 1, 2010, the royalties reported as withheld by the lessee in accordance with the Energy Policy Act of 2005 amounted to $18,115,147.16 plus interest at 8% per annum. This certification is applicable as of October 1, 2010.

Dated: June 21, 2011.
David A. Lebryk,
Commissioner.

[FR Doc. 2011-16009 Filed 6-27-11; 8:45 am]

BILLING CODE 4810-35-M